DEPARTMENT OF LABOR

Office of the Secretary

Agency Information Collection Activities; Submission for OMB Review; Comment Request; Evaluating the Accessibility of American Job Centers for People With Disabilities

ACTION: Notice.

SUMMARY: The Department of Labor (DOL) is submitting the information collection request (ICR) proposal titled, “Evaluating the Accessibility of American Job Centers for People with Disabilities,” to the Office of Management and Budget (OMB) for review and approval for use in accordance with the Paperwork Reduction Act (PRA) of 1995 (44 U.S.C. 3501 et seq.). Public comments on the ICR are invited.

DATES: The OMB will consider all written comments that agency receives on or before May 28, 2014.

ADDRESSES: A copy of this ICR with applicable supporting documentation; including a description of the likely respondents, proposed frequency of response, and estimated total burden may be obtained free of charge from the RegInfo.gov Web site at http://www.reginfo.gov/public/do/PRAViewICR?ref_nbr=201403-1290-001 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-OS, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: This ICR seeks to obtain PRA authority to conduct the “Evaluating the Accessibility of American Job Centers for People with Disabilities” information collection. The evaluation will help policymakers and program administrators understand the level of accessibility of American Job Centers (AJCs) and identify ways to improve their accessibility to persons with disabilities (PWDs). In addition to identifying the degree to which AJCs provide accessible services to PWD, the study will examine differences in the levels of accessibility by the type of accessibility required, such as physical, programmatic, and communication and the characteristics of AJCs (e.g., affiliate vs. comprehensive, or rural vs. urban) or the nature of AJC services provided (e.g., core, intensive, and training). This is not an audit for compliance with laws and regulations regarding accessibility for AJCs. Rather, the purpose of the study is to gather data to ascertain, broadly, the degree to which AJCs, as a whole, are accessible to PWD. Information collection activities associated with this ICR include conducting a project director survey and staff interviews and program beneficiary focus groups conducted during site visits,. Workforce Investment Act section 172 authorizes this information collection. See 29 U.S.C. 2917.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on September 5, 2013 (78 FR 54679).

Interested parties are encouraged to send written comments to the OMB, Office of Information and Regulatory Affairs at the address shown in the ADDRESSES section within 30 days of publication of this notice in the Federal Register. In order to help ensure appropriate consideration, comments should mention OMB Control Number 201403-1290-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL.

Title of Collection: Evaluating the Accessibility of American Job Centers for People with Disabilities.

OMB ICR Reference Number: 201403-1290-001.

Affected Public: State, Local, and Tribal Governments and individuals or households.

Total Estimated Number of Respondents: 2,524.

Total Estimated Number of Responses: 2,524.

Total Estimated Annual Time Burden: 1,991 hours.

Total Estimated Annual Other Costs Burden: $0.

Dated: April 21, 2014.
Michel Smyth,
Departmental Clearance Officer.

[FR Doc. 2014-09513 Filed 4-25-14; 8:45 am]

BILLING CODE 4510-23-P